DEPARTMENT OF AGRICULTURE

Forest Service

RIN 0596-AC51

Extension of Comment Period on the Proposed Directive on Groundwater Resource Management, Forest Service Manual 2560

AGENCY: Forest Service, USDA.

ACTION: Notice of proposed directive; Extension of comment period.

SUMMARY: The Forest Service published a notice in the Federal Register on May 6, 2014, initiating a 90-day comment period on the Proposed Directive on Groundwater Resource Management, Forest Service Manual 2560. The closing date for that 90-day comment period is August 4, 2014. The Agency is extending the comment period; therefore, the comment period has been extended to September 3, 2014.

DATES: Comments must be received by September 3, 2014.

ADDRESSES: Send comments electronically by following the instructions at the Federal eRulemaking portal at http://www.regulation.gov. Comments may also be submitted by electronic mail to fsm2500@fs.fed.us or by mail to Groundwater Directive Comments, USDA Forest Service, Attn: Rob Harper—WFWARP, 201 14th Street SW., Washington, DC 20250. If comments are sent electronically, the public is requested not to send duplicate comments by mail. Please confine comments to issues pertinent to the proposed directive; explain the reasons for any recommended changes; and, where possible, refer to the specific wording being addressed. All comments, including names and addresses when provided, will be placed in the record and will be available for public inspection and copying. The public may inspect the comments received on the proposed directive at the USDA Forest Service Headquarters, located in the Yates Federal Building at 201 14th Street SW., Washington, DC, on regular business days between 8:30 a.m. and 4:30 p.m. Those wishing to inspect the comments are encouraged to call ahead at (202) 205-0967 to facilitate entry into the building.

FOR FURTHER INFORMATION CONTACT: Troy Thompson, Watershed, Fish, Wildlife, Air and Rare Plants Staff and Minerals and Geology Management Staff, (414) 297-3622. Individuals who use telecommunication devices for the deaf (TDD) may call the Federal Information Relay Service at (800) 877-8339 between 8:00 a.m. and 8:00 p.m., Eastern Standard Time, Monday through Friday.

SUPPLEMENTARY INFORMATION: The Forest Service proposes to amend its internal Agency directives for Watershed and Air Management to establish direction for management of groundwater resources on National Forest System (NFS) lands as an integral component of watershed management. Specifically, the proposed amendment would provide direction on the consideration of groundwater resources in agency activities, approvals, and authorizations; encourage source water protection and water conservation; establish procedures for reviewing new proposals for groundwater withdrawals on NFS lands; require the evaluation of potential impacts from groundwater withdrawals on NFS resources; and provide for measurement and reporting for some larger groundwater withdrawals. This proposed amendment would supplement existing special uses and minerals and geology directives to address issues of groundwater resource management and would help ensure consistent and adequate analyses for evaluating potential uses of NFS lands that could affect groundwater resources. Public comment is invited and will be considered in development of the final directive. The Forest Service wants to ensure that there is sufficient time for potentially affected parties, including States, to comment. Thus the Agency is providing an extended comment period for the proposed directive.

In addition, the Forest Service may host meetings and/or webinars as needed on the proposed directive to present information and answer questions on the proposed policy and the comment process during the comment period. Specific information regarding the dates and times of the webinar will be announced by news release and at the following Web site: http://www.fs.fed.us/geology/groundwater. A recording of the webinar may also be posted on the Web site.

Reviewers may obtain a copy of the proposed directive from the Forest Service Minerals and Geology Management Staff Web site, http://www.fs.fed.us/geology/groundwater, or from the Regulations.gov Web site, http://www.regulations.gov.

Dated: July 29, 2014.
Thomas L. Tidwell,
Chief, Forest Service.

[FR Doc. 2014-18219 Filed 7-31-14; 8:45 am]

BILLING CODE 3411-15-P